ENVIRONMENTAL PROTECTION AGENCY

[EPA-HQ-OW-2008-0356; FRL-8574-3]

Agency Information Collection Activities: Proposed Collection; Comment Request; Water Quality Standards Regulation (Renewal), EPA ICR Number 988.10, OMB Control Number 2040-0049

AGENCY: Environmental Protection Agency.

ACTION: Notice.

SUMMARY: In compliance with the Paperwork Reduction Act (44 U.S.C. 3501 et seq.), this document announces that EPA is planning to submit a request to renew an existing approved Information Collection Request (ICR) to the Office of Management and Budget (OMB). This ICR is scheduled to expire on November 30, 2008. Before submitting the ICR to OMB for review and approval, EPA is soliciting comments on specific aspects of the proposed information collection as described below.

DATES: Comments must be submitted on or before August 1, 2008.

ADDRESSES: Submit your comments, identified by docket ID No. EPA-HQ-OW-2008-0356 by one of the following methods:

• http://www.regulations.gov. Follow the on-line instructions for submitting comments.

• E-mail: ow-docket@epa.gov.

• Mail: EPA Docket Center, Water Docket, Environmental Protection Agency, Mailcode 28221T, 1200 Pennsylvania Ave., NW., Washington, DC 20460.

• Hand delivery: Docket in the EPA Docket Center (EPA/DC), EPA West, Room 3334, 1301 Constitution Ave., NW., Washington, DC. Such deliveries are only accepted during the Docket's normal hours of operation, and special arrangements should be made for deliveries of boxed information.

Instructions: Direct your comments to Docket ID No. EPA-HQ-OW-2008-0356. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Samantha Fontenelle, Office of Water (4305T), Environmental Protection Agency, 1200 Pennsylvania Ave., NW., Washington, DC 20460; telephone number: 202-566-2083; fax number: 202-566-0409; e-mail address fontenelle.samantha@epa.gov.

SUPPLEMENTARY INFORMATION:

How Can I Access the Docket and/or Submit Comments?

EPA has established a public docket for this ICR under Docket ID number EPA-HQ-OW-2008-0356, which is available for online viewing at http://www.regulations.gov or in person viewing at the Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the Water Docket is (202) 566-2426.

Use http://www.regulations.gov to obtain a copy of the draft collection of information, submit or view public comments, access the index listing of the contents of the public docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are all States and certain authorized Indian tribes that adopt water quality standards under the Clean Water Act; and water dischargers subject to certain requirements related to water quality standards in the Great Lakes system, including dischargers in the following SIC categories: Mining (SIC codes 10, 14); Food (20); Pulp and Paper (26); Inorganic Chemical Manufacturing (281); Organic Chemical Manufacturing (28); Petroleum Refining (29); Metal Manufacturing (33), Metal Finishing (34-37); Steam Electric (4911), and Publically Owned Treatment Works (4952). For the purposes of the Regulation, the term “State” means the 50 States, the District of Columbia, Guam, the Commonwealth of Puerto Rico, the Virgin Islands, American Samoa, and the Commonwealth of the Northern Mariana Islands.

Title: Water Quality Standards Regulation (Renewal).

ICR Number: EPA ICR No. 988.10, OMB Control No. 2040-0049.

ICR Status: This ICR is currently scheduled to expire on November 30, 2008. An Agency may not conduct or sponsor, and a person is not required to respond to a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Water quality standards are provisions of State, Tribal, and Federal law that consist of designated uses for waters of the United States, water quality criteria to protect the designated uses, and an antidegradation policy. Section 303(c) of the Clean Water Act requires States and authorized Tribes to establish water quality standards, and to review and, if appropriate, revise their water quality standards once every three years. The Act also requires EPA to review and either approve or disapprove the new or revised standards, and to promulgate replacement Federal standards if necessary. Section 118(c)(2) of the Act specifies additional water quality standards requirements for waters of the Great Lakes system.

The Water Quality Standards Regulation (40 CFR part 131 and portions of part 132) governs national implementation of the water quality standards program. The Regulation describes requirements and procedures for States and authorized Tribes to develop, review, and revise their water quality standards, and EPA procedures for reviewing and approving the water quality standards. The regulation requires the development and submission of information to EPA, including:

—The minimum elements in water quality standards that each State or Tribe must submit to EPA for review, including any new or revised water quality standards resulting from the jurisdiction's triennial review (40 CFR 131.6 and 131.20). The elements include use designations for specific water bodies; methods used and analyses conducted to support water quality standards revisions; supporting analysis for use attainability analyses; water quality criteria sufficient to protect the designated uses; methodologies for site-specific criteria development; an antidegradation policy; certification by the jurisdiction's Attorney General or other appropriate legal authority that the water quality standards were duly adopted pursuant to State or Tribal law; information that will aid EPA in determining the adequacy of the scientific basis for the standards; and information on general policies that may affect the implementation of the standards.

—Information that an Indian Tribe must submit to EPA in order to determine whether a Tribe is qualified to administer the water quality standards program (40 CFR 131.8).

—Information a State or Tribe must submit if it chooses to exercise a dispute resolution mechanism for disputes between States and Tribes over water quality standards on common water bodies (40 CFR 131.7).

—Information related to public participation requirements during State and Tribal review and revision of water quality standards (40 CFR 131.20). States and Tribes must hold public hearings as part of their triennial reviews, and make any proposed standards and supporting analyses available to the public before the hearing.

The Regulation establishes specific additional requirements for water quality standards and their implementation in the waters of the Great Lakes system, contained in the Water Quality Guidance for the Great Lakes System (40 CFR part 132). This portion of the Regulation includes the following requirements for information collection: bioassay tests to support the development of water quality criteria; studies to identify and provide information on antidegradation control measures that will guard against the reduction of water quality in the Great Lakes system; and information collection and recordkeeping activities associated with analyses and reporting to request regulatory relief from Guidance requirements. The Guidance includes additional information collections that are addressed in separate Information Collection Requests for the National Pollutant Discharge Elimination System program.

Burden Statement: The annual public reporting and recordkeeping burden for this collection of information is estimated to average 988 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The following estimates are based on estimates from the previous ICR renewal and will be revised prior to OMB submission. The public will have a second opportunity to comment before then. The ICR provides a detailed explanation of the Agency's estimate, which is only briefly summarized here:

Estimated total number of potential respondents: 2,796.¹

¹ Note: EPA estimates that of the estimated total number of potential respondents there will likely be only 264 responses.

Frequency of response: At least once every 3 years.

Estimated total average number of responses for each respondent: 0.095.

Estimated total annual burden hours: 260,714 hours.

Estimated total annual costs: $12,063,453. This cost consists entirely of the estimated burden cost since there are no capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 23, 2008.
Ephraim King,
Director, Office of Science and Technology.

[FR Doc. E8-12268 Filed 5-30-08; 8:45 am]

BILLING CODE 6560-50-P